DEPARTMENT OF HEALTH AND HUMAN SERVICES

Announcement of the Release of the U.S. Department of Health and Human Services' Action Plan To Prevent Healthcare-Associated Infections

AGENCY: Department of Health and Human Services, Office of the Secretary, Office of Public Health and Science.

ACTION: Notice.

Authority: 42 U.S.C 200u.

SUMMARY: The Office of Public Health and Science (OPHS), U.S. Department of Health and Human Services (HHS), announces the release of the HHS Action Plan To Prevent Healthcare-Associated Infections (HHS Action Plan). The effort represents a culmination of several months of deliberation by subject matter experts across HHS to identify key actions in the prevention of healthcare-associated infections (HAIs). The document establishes national goals for enhancing and coordinating HHS-supported efforts, including the development of (1) National benchmarks; (2) prioritized recommended clinical practices to facilitate implementation of and adherence to existing recommended practices in hospitals; (3) a coordinated research agenda to strengthen the science for infection control prevention in hospitals; (4) a plan to progress towards the standardized measures and data definitional alignment needed to more accurately measure HAIs and make the varied HHS data systems interoperable; (5) opportunities for evaluating compliance with infection control practices in hospitals through certification processes and potential options for the use of payment policies and financial incentives to motivate organizations to provide better, more efficient care; and (6) a national messaging plan to build partnerships with various stakeholder groups across the country.

Background: Healthcare-associated infections exact a significant toll on human life. They are among the top ten leading causes of death in the United States, accounting for an estimated 1.7 million infections and 99,000 associated deaths. In hospitals, they are a significant cause of morbidity and mortality. In addition to the substantial human suffering exacted by HAIs, the financial burden attributable to these infections is staggering. It is estimated that HAIs incur nearly $20 billion in excess healthcare costs each year. For these reasons, the reduction of HAIs is a top priority for HHS.

The HHS Steering Committee to Prevent Healthcare-Associated Infections (Committee) was established in July 2008. The Committee was charged with developing a strategy to reduce HAIs and issuing a plan which establishes national goals for HAI prevention and outlines key actions for achieving identified short- and long-term objectives. The plan is also intended to enhance collaboration with external stakeholders to maximize coordination and impact of national efforts. Thus, the development process of the HHS Action Plan is inclusive. The goal is to effectively collaborate with multiple stakeholders to maximize reach and impact in order to effectively prevent HAIs. The process strives to maximize transparency, public input, and stakeholder dialogue to ensure that the HHS Action Plan is relevant to multiple audiences and diverse public health needs and seizes opportunities to achieve its goals. Drawing on the expertise of the HHS Steering Committee To Prevent Healthcare-Associated Infections, other experts across the Federal Government, various stakeholders, and the public, the HHS Action Plan will establish a national strategy for the reduction and prevention of HAIs. The public is invited to comment through the Web site on the content of the document. The plan is intended to be updated periodically in response to public input and new recommendations for infection prevention.

ADDRESSES: The Action Plan To Prevent Healthcare-Associated Infections and instructions for submitting comments can be viewed at http://www.hhs.gov/ophs.

FOR FURTHER INFORMATION CONTACT: Send questions to the Office of Public Health and Science, U.S. Department of Health and Human Services, Ms. Julie Moreno at Julie.Moreno@hhs.gov (e-mail), (202) 401-9581 (phone), or (202) 690-6960 (fax) or Ms. Rani Jeeva at Rani.Jeeva@hhs.gov (e-mail), (240) 276-9824 (phone), or (240) 276-9860 (fax).

Dated: December 22, 2008.
Donald Wright,
Principal Deputy Assistant Secretary for Health.

[FR Doc. E8-31195 Filed 1-5-09; 10:58 am]

BILLING CODE 4150-28-P[FTNT][P][SU]6[/SU]&thnsp;Notice of the United States Postal Service Regarding the FY 2008 Comprehensive Statement, December 30, 2008.[/FTNT]